DEPARTMENT OF COMMERCE

Economic Development Administration

Notice of Petitions by Firms for Determination of Eligibility To Apply for Trade Adjustment Assistance

AGENCY: Economic Development Administration, Department of Commerce.

ACTION: Notice and opportunity for public comment.

Pursuant to Section 251 of the Trade Act of 1974, as amended (19 U.S.C. 2341 et seq.), the Economic Development Administration (EDA) has received petitions for certification of eligibility to apply for Trade Adjustment Assistance from the firms listed below. Accordingly, EDA has initiated investigations to determine whether increased imports into the United States of articles like or directly competitive with those produced by each of these firms contributed importantly to the total or partial separation of the firm's workers, or threat thereof, and to a decrease in sales or production of each petitioning firm.

List of Petitions Received by EDA for Certification of Eligibility to Apply for Trade Adjustment Assistance 9/23/2010 Through 10/01/2010
Firm name | Address | Date accepted for investigation | Products
Compass Components, Inc | 48502 Kato Road, Fremont, CA 94538 | 9/30/2010 | The firm manufactures and distributes a variety of passive and electro-mechanical component parts.
Knickerbocker Machine Shop, Inc. dba Alloy Stainless Products Co | 611 Union Boulevard, Totowa, NJ 07512 | 9/30/2010 | The firm manufactures threaded and socket welded stainless steel, high nickel alloy and other nonferrous alloy pipe fittings to standard specifications and custom designs.
PD-LD, Inc | 30-B Pennington-Hopewell Road, Pennington, NJ 08534 | 9/30/2010 | The firm manufactures and packages active laser products including transceivers, communications components, and non-communications transmitters.
Pearce Foundry West, Inc | 2190 Greenwood Street, Memphis, TX 79245 | 9/24/2010 | The firm manufactures components of cast steel products.
Pequea Machine, Inc | 200 Jalyn Drive, P.O. Box 399, New Holland, PA 17557 | 9/27/2010 | The firm manufactures farm machinery and equipment.
Superior Tire & Rubber Corporation | 1818 Pennsylvania Avenue West, Warren, PA 16365 | 9/24/2010 | The firm is a designer and manufacturer of solid polyurethane and rubber industrial wear products.

Any party having a substantial interest in these proceedings may request a public hearing on the matter. A written request for a hearing must be submitted to the Trade Adjustment Assistance for Firms Division, Room 7106, Economic Development Administration, U.S. Department of Commerce, Washington, DC 20230, no later than ten (10) calendar days following publication of this notice.

Please follow the requirements set forth in EDA's regulations at 13 CFR 315.9 for procedures to request a public hearing. The Catalog of Federal Domestic Assistance official number and title for the program under which these petitions are submitted is 11.313, Trade Adjustment Assistance for Firms.

Dated: October 1, 2010.
Bryan Borlik,
Director, TAA for Firms.

[FR Doc. 2010-25343 Filed 10-6-10; 8:45 am]

BILLING CODE 3510-24-P